DEPARTMENT OF THE INTERIOR

Bureau of Land Management

[LLIDB00100 L17110000.PH0000 4500043075]

Notice of Intent To Prepare an Environmental Assessment To Amend Bureau of Land Management, Boise District, Land Use Plans To Clarify Lands Eligible for Disposal; Correction

AGENCY: Bureau of Land Management, Interior.

ACTION: Correction.

SUMMARY: This action corrects the ZIP code referenced in the ADDRESSES section and the spelling of the name in the signature block in a notice published in the Federal Register on Thursday, October 18, 2012 (77 FR 64124).

On page 64124, column 2, line 14 of the notice, which reads “District Office at 3894 Development” is hereby corrected to read, “District Office at 3948 Development.”

On page 64124, column 2, line 15 of the notice, which reads “Ave., Boise, ID 38705” is hereby corrected to read, “Ave., Boise, ID 83705.”

On page 64124, column 2, line 20 of the notice, which reads “3339; address: 3894 Development Ave.,” is hereby corrected to read “3339; address: 3948 Development Ave.”

On page 64124, column 2, line 21 of the notice, which reads “Boise, ID 38705; email:” is hereby corrected to read Boise, ID 83705; email:.”

On page 64125, column 2, line 9 of the notice, which reads “Allen Sieglitz” is hereby corrected to read, “Aden Seidlitz”.

James M. Fincher,
Boise District Manager.

[FR Doc. 2012-27772 Filed 11-14-12; 8:45 am]

BILLING CODE 4310-GG-P